DEPARTMENT OF HEALTH AND HUMAN SERVICES

Centers for Disease Control and Prevention

Mine Safety and Health Research Advisory Committee (MSHRAC)

AGENCY: Centers for Disease Control and Prevention (CDC), Department of Health and Human Services (HHS).

ACTION: Notice of meeting.

SUMMARY: In accordance with the Federal Advisory Committee Act, the CDC announces the following meeting for the Mine Safety and Health Research Advisory Committee (MSHRAC). This is a virtual meeting. It is open to the public, limited only by web conference lines (500 web conference lines are available).

DATES: The meeting will be held on December 8, 2021, from 10:30 a.m. to 3:30 p.m., EST, and December 9, 2021, from 10:30 a.m. to 2:30 p.m., EST.

ADDRESSES: If you wish to attend, please contact Ms. Berni Metzger by email at M.Metzger@cdc.hhs.gov or by telephone at (412) 386-4541 at least 5 business days in advance of the meeting. She will provide you with the Zoom web conference access information.

FOR FURTHER INFORMATION CONTACT: George W. Luxbacher, P.E., Ph.D., Designated Federal Officer, MSHRAC, National Institute for Occupational Safety and Health (NIOSH), CDC, 2400 Century Parkway NE, Atlanta, GA 30345, Telephone: (404) 498-2808; Email: GLuxbacher@cdc.gov.

SUPPLEMENTARY INFORMATION: Purpose: This committee is charged with providing advice to the Secretary, Department of Health and Human Services; the Director, CDC; and the Director, NIOSH, on priorities in mine safety and health research, including grants and contracts for such research, 30 U.S.C. 812(b)(2), Section 102(b)(2).

Matters To Be Considered: The agenda will include discussions on NIOSH mining safety and health research organizational structure, capabilities, projects, and outcomes; updates on MINER Act extramural research; and the Mining Program Strategic Plan. The meeting will also include an update from the NIOSH Associate Director for Mining. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-22180 Filed 10-12-21; 8:45 am]

BILLING CODE 4163-18-P